DEPARTMENT OF TRANSPORTATION

Federal Motor Carrier Safety Administration

[Docket No. FMCSA-2013-0478]

Agency Information Collection Activities; Revision of a Currently-Approved Information Collection: Accident Recordkeeping Requirements

AGENCY: Federal Motor Carrier Safety Administration (FMCSA), DOT.

ACTION: Notice; request for comments.

SUMMARY: In accordance with the Paperwork Reduction Act of 1995, FMCSA announces its plan to submit the Information Collection Request (ICR) described below to the Office of Management and Budget (OMB) for approval and invites public comment. FMCSA requests approval to revise the ICR entitled “Accident Recordkeeping Requirements.” This ICR relates to Agency requirements that motor carriers maintain a record of certain accidents involving commercial motor vehicles (CMVs). Motor carriers are not required to report this data to FMCSA, but must produce it upon inquiry by authorized Federal, State or local officials.

DATES: We must receive your comments on or before April 15, 2014.

ADDRESSES: You may submit comments identified by Federal Docket Management System Number FMCSA-2013-0478 by any of the following methods:

• Federal eRulemaking Portal: http://www.regulations.gov. Follow the online instructions for submitting comments.

• Fax: 1-202-493-2251.

• Mail: Docket Management Facility, U.S. Department of Transportation, 1200 New Jersey Avenue SE., West Building, Ground Floor, Room W12-140, Washington, DC 20590-0001.

• Hand Delivery or Courier: West Building, Ground Floor, Room W12-140, 1200 New Jersey Avenue SE., between 9 a.m. and 5 p.m. E.T., Monday through Friday, except Federal holidays.

Instructions: All submissions must include the Agency name and docket number. For detailed instructions on submitting comments and additional information on the exemption process, see the Public Participation heading below. Note that all comments received will be posted without change to www.regulations.gov, including any personal information provided. Please see the Privacy Act heading below.

Docket: For access to the docket to read background documents or comments received, go to www.regulations.gov, and follow the online instructions for accessing the dockets, or go to the street address listed above.

Privacy Act: Anyone is able to search the electronic form of all comments received into any of our dockets by the name of the individual submitting the comment (or signing the comment, if submitted on behalf of an association, business, labor union, etc.). You may review DOT's Privacy Act Statement for the Federal Docket Management System published in the Federal Register on January 17, 2008 (73 FR 3316), or you may visit http://edocket.access.gpo.gov/2008/pdfE8-794.pdf.

Public participation: The Federal eRulemaking Portal is available 24 hours each day, 365 days each year. You can obtain electronic submission and retrieval help and guidelines under the “help” section of the Federal eRulemaking Portal Web site. If you want us to notify you that we received your comments, please include a self-addressed, stamped envelope or postcard, or print the acknowledgement page that appears after submitting comments online. Comments received after the comment closing date will be included in the docket and will be considered to the extent practicable.

FOR FURTHER INFORMATION CONTACT: Mr. Thomas Yager, Chief, Driver and Carrier Operations Division, Department of Transportation, Federal Motor Carrier Safety Administration, West Building 6th Floor, 1200 New Jersey Avenue SE., Washington, DC 20590. Telephone: 202-366-4325; email tom.yager@dot.gov.

SUPPLEMENTARY INFORMATION:

Background

Title 49 of the Code of Federal Regulations, Section 390.15(b), requires motor carriers to make certain specified records and information pertaining to CMV accidents available to an authorized representative or special agent of the FMCSA upon request or as part of an inquiry. Interstate motor carriers are required to maintain an “accident register” consisting of information concerning all “accidents” involving their CMVs (49 CFR 390.15(b) (see “Definition: Accident” below). Motor carriers must report accidents that occur in interstate and intrastate commerce. The following information must be recorded for each accident: Date, location, driver name, number of injuries, number of fatalities, and whether certain dangerous hazardous materials were released. In addition, the motor carrier must maintain copies of all accident reports required by insurers or governmental entities. Motor carriers must maintain this information for three years after the date of the accident. Section 390.15 does not require motor carriers to submit any information or records to FMCSA or any other party.

This ICR supports the DOT strategic goal of safety. By requiring motor carriers to gather and record information concerning CMV accidents, FMCSA is strengthening its ability to assess the safety performance of motor carriers. This information is a valuable resource in Agency initiatives to prevent, and reduce the severity of, CMV crashes.

Title: Accident Recordkeeping Requirements.

OMB Control Number: 2126-0009.

Type of Request: Revision of a currently approved information collection.

Respondents: Motor Carriers.

Estimated Number of Respondents: 520,000 motor carriers.

Estimated Number of Responses: 89,000.

Estimated Time per Response: 18 minutes.

Expiration Date: May 31, 2014.

Frequency of Response: On occasion.

Estimated Total Annual Burden: 26,700 hours [89,000 motor carriers recording an accident × 18 minutes per response/60 minutes in an hour = 26,700].

Definition: “Accident” is an occurrence involving a CMV operating on a public road which results in: (1) A fatality, (2) bodily injury to a person who, as a result of the injury, receives medical treatment away from the scene of the accident, or (3) one or more motor vehicles being towed from the scene (49 CFR 390.5).

Public Comments Invited: You are asked to comment on any aspect of this information collection, including: (1) Whether the proposed collection is necessary for the FMCSA's performance; (2) the accuracy of the estimated burden; (3) ways for the FMCSA to enhance the quality, usefulness, and clarity of the collected information; and (4) ways that the burden could be minimized without reducing the quality of the collected information. The Agency will summarize or include your comments in the request for OMB's clearance of this information collection.

Issued under the authority of 49 CFR 1.87 on: February 6, 2014.
Kelly Leone,
Associate Administrator for Office of Research and Information Technology and Chief Information Officer.

[FR Doc. 2014-03347 Filed 2-13-14; 8:45 am]

BILLING CODE 4910-EX-P